DEPARTMENT OF LABOR

Office of the Secretary

Submission for OMB Review: Comment Request

February 13, 2009.

The Department of Labor (DOL) hereby announces the submission of the following public information collection request (ICR) to the Office of Management and Budget (OMB) for review and approval in accordance with the Paperwork Reduction Act of 1995 (Pub. L. 104-13, 44 U.S.C. chapter 35). A copy of this ICR, with applicable supporting documentation; including among other things a description of the likely respondents, proposed frequency of response, and estimated total burden may be obtained from the RegInfo.gov Web site at http://www.reginfo.gov/public/do/PRAMain or by contacting Mary Beth Smith-Toomey on 202-693-4223 (this is not a toll-free number) / e-mail: DOL_PRA_PUBLIC@dol.gov.

Interested parties are encouraged to send comments to the Office of Information and Regulatory Affairs, Attn: OMB Desk Officer for the Department of Labor—ETA, Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Training Administration.

Type of Review: Extension without change of currently approved collection.

Title of Collection: Labor Exchange Reporting System (LERS).

OMB Control Number: 1205-0240.

Agency Form Numbers: ETA 200-VETS, VETS 200A, VETS 200B, VETS 200C, ETA 9002A, ETA 9002B, ETA 9002C, ETA 9002D, and ETA 9002E.

Affected Public: State, Local and Tribal Governments.

Total Estimated Number of Respondents: 54.

Total Estimated Annual Burden Hours: 527,023.

Total Estimated Annual Costs Burden: $ 0.

Description: States submit quarterly performance data for the Wagner-Peyser funded public labor exchange services through ETA 9002 reports and for Veterans' Employment and Training Services (VETS)-funded labor exchange services through VETS 200 reports. The Employment and Training (ET) Handbook No. 406 contains the report forms and provides instructions for completing these reports. The ETA Handbook No. 406 contains a total of eight reports (ETA 9002, A, B, C, D, E; VETS 200 A, B, C). The ETA 9002 and VETS 200 reports collect data on individuals who receive core employment and workforce information services through the public labor exchange and VETS-funded labor exchange of the states' One-Stop delivery systems. Respondents are State governments. Selected standardized information pertaining to customers in Wagner-Peyser programs are collected and reported for the purposes of general program oversight, evaluation and performance assessment. For additional information, see related notice published at Volume 73 FR 45075 on August 1, 2008.

Darrin A. King,
Departmental Clearance Officer.

[FR Doc. E9-3626 Filed 2-19-09; 8:45 am]

BILLING CODE 4510-FN-P